COMMITTEE FOR PURCHASE FROM PEOPLE WHO ARE BLIND OR SEVERELY DISABLED

Quarterly Public Meeting

AGENCY: Committee for Purchase From People Who Are Blind or Severely Disabled.

ACTION: Notice of public meeting.

Date and Time: January 31, 2023, from 1 p.m. to 4 p.m., ET.

Place: The meeting will be virtual only via Zoom webinar.

FOR FURTHER INFORMATION CONTACT: Angela Phifer, 355 E Street SW, Suite 325, Washington, DC 20024; (703) 798-5873, or CMTEFedReg@AbilityOne.gov.

SUPPLEMENTARY INFORMATION:

Background: The Committee for Purchase From People Who Are Blind or Severely Disabled is an independent government agency operating as the U.S. AbilityOne Commission. It oversees the AbilityOne Program, which provides employment opportunities through Federal contracts for people who are blind or have significant disabilities in the manufacture and delivery of products and services to the Federal Government. The Javits-Wagner-O'Day Act (41 U.S.C. Chapter 85) authorizes the contracts.

Registration: Attendees not requesting speaking time must register not later than 11:59 p.m. ET on January 30, 2023. Attendees requesting speaking time should register not later than 11:59 p.m. ET on January 19, 2023, and use the comment fields in the registration form to specify the intended speaking topic/s. The registration link will be posted on the Commission's home page, www.abilityone.gov, not later than January 4, 2023.

Commission Statement: This regular quarterly public meeting will include updates from the Commission Chairperson, Executive Director, and Inspector General. A panel of Federal customers will broadly address, from an overall acquisition perspective, what is important to Federal agencies in terms of contractor performance—whether or not those contracts are awarded under the auspices of the AbilityOne Program. Panelist topics may include but are not limited to quality, timely delivery, best value, innovation, and compliance with cybersecurity and other Federal guidance.

Public Participation: The Commission invites public comments and suggestions about the panel topic, including perspectives on contract performance, quality assurance, and measurement of customer satisfaction. During registration, you may choose to submit comments, or you may request speaking time at the meeting. The Commission may invite some attendees who submit advance comments to discuss their comments during the meeting. Comments submitted will be reviewed by staff and the Commission members before the meeting. Comments posted in the chat box during the meeting will be shared with the Commission members after the meeting. The Commission is not subject to the requirements of 5 U.S.C. 552(b); however, the Commission published this notice to encourage the broadest possible participation in its meeting.

Personal Information: Do not include any information that you do not want publicly disclosed.

Michael R. Jurkowski,
Acting Director, Business Operations.

[FR Doc. 2022-27712 Filed 12-20-22; 8:45 am]

BILLING CODE 6353-01-P